DEPARTMENT OF JUSTICE

[AAG/A Order No. 020-2003]

Privacy Act of 1974; System of Records

Pursuant to the Privacy Act of 1974 (5 U.S.C. 552a) and Office of Management and Budget (OMB) Circular No. A-130, the Department of Justice has completed a review of its Privacy Act system of records titled “Grievance Records, Justice/JMD-005,” last published August 4, 1981 (46 FR 39706) and is making changes that will more accurately describe the records. The system of records is now renamed “The Department of Justice Grievance Records, DOJ-008,” as it covers all current or former Department of Justice employees, except for employees of the Federal Bureau of Investigation (FBI), who have submitted grievances under the Agency Grievance Procedure or in accordance with a negotiated grievance procedure.

The Department of Justice Grievance Records System is a system of records relating to grievances filed by Department employees under the Agency Grievance Procedure or under a negotiated grievance procedure. The system contains all documents related to each grievance in the central personnel or administrative office of the bureau, office, board, or division where the grievance originated. Changes to the system of records include additional routine uses, editorial revisions which clarify system descriptions, changes to the system location, system manager(s) and address(es), and the schedule for retention and disposal. With respect to the last category, a change has been made to establish that all of the Department's grievance records are to be disposed of four (4) years after the closing of a case.

In accordance with 5 U.S.C. 552a (e)(4) and (11), the public has 30 days in which to comment on the modified system of records. The Office of Management and Budget (OMB), which has oversight responsibilities under the Privacy Act, requires a 40-day period in which to conclude its review of the system. Therefore, please submit any comments by November 28, 2003. The public, OMB, and the Congress are invited to submit written comments to Mary Cahill, Management Analyst, Management and Planning Staff, Justice Management Division, Department of Justice, National Place Building, Room 1400, 1331 Pennsylvania Avenue NW., Washington, DC 20530.

In accordance with 5 U.S.C. 552a (r), the Department has provided a report to OMB and the Congress on the modified system of records.

Dated: October 17, 2003.
Paul R. Corts,
Assistant Attorney General for Administration.

JUSTICE/DOJ-008

SYSTEM NAME:

Department of Justice Grievance Records, Justice/DOJ-008.

SYSTEM LOCATION:

Records relating to grievances originating in a bureau (defined in 28 CFR 0.1) or an office, board, or division (defined in 28 CFR 0.1) are located in the central personnel or administrative office of the bureau, office, board, or division where the grievance originated, except for the Federal Bureau of Investigation (FBI), which is excluded from coverage under the Agency Grievance Procedure described in DOJ Order 1200.1, part 3, chapter 2.

CATEGORIES OF INDIVIDUALS COVERED BY THE SYSTEM:

Current or former Department of Justice employees, except for employees of the FBI, who have submitted grievances under the Agency Grievance Procedure or in accordance with a negotiated grievance procedure.

CATEGORIES OF RECORDS IN THE SYSTEM:

The system contains records relating to grievances filed by Department employees under the Agency Grievance Procedure or under a negotiated grievance procedure. These case files contain all documents related to each grievance, including statements of witnesses, reports of interviews and hearings, factfinder's and/or arbitrator's findings and recommendations, a copy of the original and final decision, and related correspondence and exhibits.

AUTHORITY FOR MAINTENANCE OF THE SYSTEM:

5 U.S.C. 7121; 5 CFR part 771.

PURPOSE(S):

The records are maintained and used by the Department to resolve employee concerns about working conditions, the administration of collective bargaining agreements, employee/supervisor relations, and work processes.

ROUTINE USES OF RECORDS MAINTAINED IN THE SYSTEM, INCLUDING CATEGORIES OF USERS AND THE PURPOSES OF SUCH USES:

Based on a determination by the Department of Justice that such a need exists, these records and information in these records will be disclosed as follows:

(1) To the appropriate Federal, State, or local agency responsible for investigating, prosecuting, enforcing, or implementing a statute, rule, regulation, or order, where the disclosing agency becomes aware of an indication of a violation or potential violation of civil or criminal law or regulation;

(2) To any source from which additional information is requested in the course of processing a grievance, to the extent necessary to identify the individual, inform the source of the purpose(s) of the request, and identify the type of information requested;

(3) To a Federal agency (or other establishment in the executive, legislative, and judicial branches of the Federal Government), in response to its request, in connection with the hiring or retention of an individual, the issuance of a security clearance, the conducting of a security or suitability investigation of an individual, the classifying of jobs, the letting of a contract, or the issuance of a license, grant, or other benefit by the requesting agency, to the extent that the information is relevant and necessary to the requesting agency's decision on the matter;

(4) To a congressional office in response to an inquiry made at the request of the individual to whom the record pertains;

(5) To the National Archives and Records Administration and the General Services Administration in records management inspections conducted under authority of 44 U.S.C. 2904 and 2906;

(6) In an appropriate proceeding before a court, grand jury, or administrative or regulatory body when records are determined by DOJ, or the adjudicator, to be arguably relevant to the proceeding.

(7) To an actual or potential party to litigation or the party's authorized representative for the purpose of negotiation or discussion on such matters as settlement, plea bargaining, or in informal discovery.

(8) To provide information to officials of labor organizations recognized under the Civil Service Reform Act when relevant and necessary to their duties of exclusive representation concerning personnel policies, practices, and matters affecting work conditions;

(9) To contractors, grantees, experts, consultants, students, and others performing or working on a contract, service, grant, cooperative agreement, or other assignment for the Federal Government, when necessary to accomplish an agency function related to this system of records;

(10) To former employees of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(11) To specific entities when such disclosure is mandated by federal statute, treaty, or by government-wide regulation.

POLICIES AND PRACTICES FOR STORING, RETRIEVING, ACCESSING, RETAINING, AND DISPOSING OF RECORDS IN THE SYSTEM:

STORAGE:

File folders and electronic storage.

RETRIEVABILITY:

By the names of the individuals on whom the records are maintained.

SAFEGUARDS:

Lockable metal filing cabinets or a locked room, to which only authorized personnel have access; and appropriate safeguards for electronic storage.

RETENTION AND DISPOSAL:

Disposed of four (4) years after closing of the case.

SYSTEM MANAGER(S) AND ADDRESS:

(a) Antitrust Division, Executive Officer, 601 D Street, NW., Rm. 10150, Washington, DC 20004.

(b) Civil Division, Director, Office of Administration, 1100 L Street, NW., Rm. 9018, Washington, DC 20530.

(c) Civil Rights Division, Executive Officer, 1425 New York Ave., NW., Rm. 5058, Washington, DC 20530.

(d) Criminal Division, Executive Officer, Office of Administration, 1400 New York Ave., NW., Rm. 5000, Washington, DC 20530.

(e) Environmental and Natural Resources Division, Executive Officer, 601 D Street, NW., Rm. 2038, Washington, DC 20004.

(f) Tax Division, Executive Officer, 601 D Street, NW., Rm. 7802, Washington, DC 20004.

(g) Drug Enforcement Administration, Deputy Assistant Administrator for Personnel, 700 Army Navy Drive, Rm. W3166, Arlington, VA 22202.

(h) Executive Office for Immigration Review, Office of the General Counsel, Employee/Labor Relations Unit, 5107 Leesburg Pike, Suite 2600, Falls Church, VA 22041.

(i) Executive Office for United States Attorneys, Office of Legal Counsel, 600 E Street, NW., Room 2200, Washington, DC 20530.

(j) Executive Office for United States Trustees, Human Resource Division, 20 Massachusetts Ave., NW., Rm. 8209, Washington, DC 20530.

(k) Federal Bureau of Prisons, Human Resource Management Division, Labor Management Relations and Security Branch, 320 1st Street, NW., Bldg. 400, Washington, DC 20534.

(l) Office of Justice Programs, Office of Administration, Director, Office of Personnel, 810 7th Street, NW., Rm. 3330, Washington, DC 20531.

(m) United States Marshals Service, Assistant Director for Human Resources, 600 Army Navy Drive, Suite 890, Arlington, VA 22202.

(n) Office of the Inspector General, Personnel Officer, 1425 New York Ave., NW., Suite 7000, Washington, DC 20530.

(o) Bureau of Alcohol, Tobacco, Firearms & Explosives, Personnel Division, Employee and Labor Relations Team, 650 Massachusetts Ave., NW., Rm. 4300, Washington, DC 20010.

(p) Other Offices, Boards, and Divisions: Director, Human Resources, Justice Management Division, 1331 Pennsylvania Ave., NW., Suite 1110, Washington, DC 20530.

NOTIFICATION PROCEDURE:

It is required that individuals submitting grievances be provided a copy of the record under the grievance process. They may, however, contact the agency personnel or designated office where the action was processed, regarding the existence of such records on them. They must furnish the following information for their records to be located and identified: (1) Name, and if different, name at the time of the case, (2) date of birth, (3) approximate date of closing of the case and kind of action taken, (4) organizational component involved.

RECORD ACCESS PROCEDURES:

It is required that individuals submitting grievances be provided a copy of the record under the grievance process. However, after the action has been closed, an individual may request access to the official copy of the grievance file by contacting the personnel or designated office of the bureau, office, board, or division where the action was processed (named above under the caption “System Manager(s) and Addresses”). Individuals must provide the following information for their records to be located and identified: (1) Name, and if different, name at the time of the case, (2) date of birth, (3) approximate date of closing of the case and kind of action taken, (4) organizational component involved. Individuals requesting access must also follow the Department's Privacy Act regulations (28 CFR 16.41) regarding access to records and verification of identity.

CONTESTING RECORD PROCEDURES:

Review of requests from individuals seeking amendment of their records which have been the subject of a judicial or quasi-judicial action will be limited in scope. Review of amendment requests of these records will be restricted to determining if the record accurately documents the action of the agency ruling on the case, and will not include a review of the merits of the action, determination, or finding.

Individuals wishing to request amendment to their records to correct factual errors should contact the personnel or designated office of the bureau, office, board or division where the grievance was processed (named above under the caption “System Manager(s) and Addresses”). Individuals must furnish the following information for their records to be located and identified: (1) Name, and if different, name at the time of the case, (2) date of birth, (3) approximate date of closing of the case and kind of action taken, (4) organizational component involved. Individuals requesting amendment must also follow the Department's Privacy Act regulations (28 CFR 16.41) regarding access and amendment to records and verification of identity.

RECORD SOURCE CATEGORIES:

Information in this system of records is provided: (1) By the individual on whom the record is maintained, (2) by testimony of witnesses, (3) by agency officials, (4) from related correspondence from organizations or persons.

EXEMPTIONS CLAIMED FOR THE SYSTEM:

None.

[FR Doc. 03-27194 Filed 10-28-03; 8:45 am]

BILLING CODE 4410-CG-P